SMALL BUSINESS ADMINISTRATION

[Disaster Declaration # 13927 and # 13928]

New York Disaster # NY-00141

AGENCY: U.S. Small Business Administration.

ACTION: Notice.

SUMMARY: This is a notice of an Administrative declaration of a disaster for the State of New York dated 04/08/2014.

Incident: East Harlem Gas Explosion.

Incident Period: 03/12/2014.

Effective Date: 04/08/2014.

Physical Loan Application Deadline Date: 06/09/2014.

Economic Injury (EIDL) Loan Application Deadline Date: 01/08/2015.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the Administrator's disaster declaration, applications for disaster loans may be filed at the address listed above or other locally announced locations.

The following areas have been determined to be adversely affected by the disaster:

Primary Counties: New York.

Contiguous Counties:

New York: Bronx; Kings; Queens.

New Jersey: Bergen; Hudson.

The Interest Rates are:

| Percent
For Physical Damage:
Homeowners With Credit Available Elsewhere | 4.500
Homeowners Without Credit Available Elsewhere | 2.250
Businesses With Credit Available Elsewhere | 6.000
Businesses Without Credit Available Elsewhere | 4.000
Non-Profit Organizations With Credit Available Elsewhere | 2.625
Non-Profit Organizations Without Credit Available Elsewhere | 2.625
For Economic Injury:
Businesses & Small Agricultural Cooperatives Without Credit Available Elsewhere | 4.000
Non-Profit Organizations Without Credit Available Elsewhere | 2.625

The number assigned to this disaster for physical damage is 13927 4 and for economic injury is 13928 0.

The States which received an EIDL Declaration # are New York; New Jersey.

(Catalog of Federal Domestic Assistance Numbers 59002 and 59008)

Dated: April 8, 2014.
Maria Contreras-Sweet,
Administrator.

[FR Doc. 2014-08827 Filed 4-17-14; 8:45 am]

BILLING CODE 8025-01-P